ENVIRONMENTAL PROTECTION AGENCY

[EPA-HQ-OPP-2011-0336; FRL- 8873-6]

Department of Homeland Security; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to the Department of Homeland Security. The Department of Homeland Security will work with OPP pursuant to the Homeland Security Presidential Directives and the 2009 National Infrastructure Protection Plan.

DATES: The Department of Homeland Security will be given access to this information on or after May 22, 2011.

FOR FURTHER INFORMATION CONTACT: Mario Steadman, Information Technology and Resources Management Division (7502P), Office of Pesticide Programs, Environmental Protection Agency, 1200 Pennsylvania Ave., NW., Washington, DC 20460-0001; telephone number: (703) 305-8338; e-mail address: steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0336. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Details of Transfer

EPA is announcing that some pesticide related information submitted to EPA's Office of Pesticide Programs (OPP), pursuant to FIFRA and FFDCA, including information that may have been claimed as Confidential Business Information (CBI) by the submitter, will be transferred to the Department of Homeland Security in accordance with 40 CFR 2.209(c). Access to this information is needed as part of ongoing work between the Department of Homeland Security and OPP under the authority of the Homeland Security Presidential Directives (http://www.dhs/gov/xabout/laws/editorial_0607.shtm) and the 2009 National Infrastructure Protection Plan. (http://www.dhs.gov/xlibrary/assets/NIPP_Plan.pdf) Some of this information has been claimed as confidential or may be entitled to confidential treatment. The information has been submitted to EPA under sections 3, 4, 6, and 7 of FIFRA and under sections 408 and 409 of FFDCA.

List of Subjects

Environmental protection, Business and industry, Government property, Security measures.

Dated: April 21, 2011.
Michael Hardy,
Acting Director, Information Technology and Resources Management Division, Office of Pesticide Programs.

[FR Doc. 2011-11552 Filed 5-11-11; 8:45 am]

BILLING CODE 6560-50-P